DEPARTMENT OF STATE

[Public Notice 5812]

Notice of Receipt of Application for a Presidential Permit for Pipeline Facilities To Be Constructed, Operated, and Maintained on the Borders of the United States

The Department of State has received an application from Enbridge Energy Limited Partnership (“EELP”) for a Presidential permit, pursuant to Executive Order 13337 of April 30, 2004, to construct, connect, operate, and maintain a 36-inch diameter crude oil and liquid hydrocarbon pipeline at the U.S.-Canadian border at Neche, Pembina County, North Dakota, for the purpose of transporting liquid hydrocarbons and other petroleum products between the United States and Canada. EELP seeks this authorization in connection with its Alberta Clipper Pipeline Project (“Alberta Clipper Project”), which is designed to transport Canadian crude oil from the Western Canadian Sedimentary Basin (“WCSB”) to existing refinery markets in the Midwest region of the United States.

EELP is a limited partnership duly organized under the laws of the State of Delaware. EELP is a wholly-owned subsidiary of Enbridge Energy Partners, L.P. (“Enbridge Partners”) which is a Delaware master limited partnership headquartered at 1100 Louisiana St., Suite 3300, Houston, Texas 7702. According to the application, Enbridge Partners is a publicly held limited partnership with shares traded on the New York Stock Exchange. According to the description in EEPL's application, the proposed new border crossing would consist of approximately forty (40) feet of pipeline on each side of the international boundary, which would be buried to a minimum depth of three (3) feet below ground level; the border crossing would be part of the Alberta Clipper Project, which would consist in the United States of 326 miles of 36-inch diameter pipeline from the U.S.-Canadian border at Pembina County, North Dakota, to the existing Enbridge Superior tank farm and terminal facilities in Douglas County, Wisconsin.

As required by E.O. 13337, the Department of State is circulating this application to concerned Federal agencies for comment.

DATES: The Department of State welcomes public comment and invites those who are interested in submitting comments relative to this proposal to provide such comments, in duplicate, on or before June 25, 2007 to Jeff Izzo, International Energy Commodity Policy, Room 4843, Department of State, Washington, DC 20520. The application and related documents that are part of the record to be considered by the Department of State in connection with this application are available for inspection in the Office of International Energy and Commodity Policy during normal business hours.

FOR FURTHER INFORMATION CONTACT: Jeff Izzo, Office of International Energy and Commodity Policy (EEB/ESC/IEC/EPC), Room 4843, Department of State, Washington, DC 20520, telephone 202-647-1291, facsimile 202-647-4037, e-mail izzojr@state.gov.

Stephen J. Gallogly,
Director, Office of International Energy and Commodities Policy, Department of State.

[FR Doc. E7-10124 Filed 5-24-07; 8:45 am]

BILLING CODE 4710-07-P